DEPARTMENT OF THE TREASURY

United States Mint

Citizens Coinage Advisory Committee November 29, 2011; Public Meeting

ACTION: Notice.

SUMMARY: Pursuant to United States Code, Title 31, section 5135(b)(8)(C), the United States Mint announces the Citizens Coinage Advisory Committee (CCAC) public meeting scheduled for November 29, 2011.

Date: November 29, 2011.

Time: 9 a.m. to 5 p.m.

Location: Conference Room A, United States Mint, 801 9th Street NW., Washington, DC 20220.

Subject: Review and consideration of reverse candidate designs for the 2013 America the Beautiful Quarters® Program Coins; review and consideration of candidate designs for the 2012 First Spouse Gold Coins and Bronze Medals honoring Alice Paul (with a reverse representative of the suffrage movement), Frances Cleveland and Caroline Harrison; review and consideration of reverse candidate designs for 2012 American Eagle Platinum Coin program; and discussion of the 2011 Annual Report.

Interested persons should call the CCAC HOTLINE at (202) 354-7502 for the latest update on meeting time and room location.

In accordance with 31 U.S.C. § 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: Andy Fishburn, United States Mint Liaison to the CCAC; 801 9th Street NW., Washington, DC 20220; or call (202) 354-6700.

Any member of the public interested in submitting matters for the CCAC's consideration is invited to submit them by fax to the following number: (202) 756-6525.

Authority: 31 U.S.C. 5135(b)(8)(C).

Dated: November 16, 2011.
Richard A. Peterson,
Deputy Director, United States Mint.

[FR Doc. 2011-30469 Filed 11-25-11; 8:45 am]

BILLING CODE P